DEPARTMENT OF HEALTH AND HUMAN SERVICES

Centers for Medicare & Medicaid Services

[CMS-1336-N]

Medicare Program; Medicare Provider Feedback Group Town Hall Meeting—October 29, 2009

AGENCY: Centers for Medicare & Medicaid Services (CMS), HHS.

ACTION: Notice.

SUMMARY: This notice announces the annual Medicare Provider Feedback Group (MPFG) Town Hall meeting. This meeting is open to all Medicare Fee-for-Service (FFS) providers and suppliers that participate in the Medicare program, including physicians, hospitals, home health agencies, third-party billers, and interested parties, to present their individual views and opinions on selected FFS Medicare topics. In addition, we will be soliciting input on how we can improve communications to better serve the Medicare providers and suppliers.

DATES: Meeting Date: The Town Hall meeting announced in this notice will be held on Thursday, October 29, 2009 from 2 p.m. to 4 p.m. Eastern Daylight Time (EDT).

Deadlines:

Deadline for Attendance Registration—Registration will be open beginning September 28, 2009 and will close on October 23, 2009. Registration after 5 p.m. EDT on October 23, 2009 will not be accepted.

Deadline for Written Feedback—Written feedback will be accepted through November 6, 2009.

ADDRESSES: Meeting Location: The Town Hall meeting will be held in the main auditorium of the central building of the Centers for Medicare and Medicaid Services, 7500 Security Boulevard, Baltimore, MD 21244. The meeting will also be available by teleconference.

Web sites:

Meeting Registration: Individuals must complete the online registration at http://registration.intercall.com/go/cms2.

Meeting Materials: The meeting agenda and discussion material will be available to download by October 23, 2009, at http://www.cms.hhs.gov/center/provider.asp.

FOR FURTHER INFORMATION CONTACT: Colette Shatto, (410) 786-6932. You may also send inquiries about this meeting by e-mail to MFG@cms.hhs.gov.

SUPPLEMENTARY INFORMATION:

I. Background

Since 2005, CMS has held five Medicare Provider Feedback Group (MPFG) Town Hall meetings. The purpose of these meetings is to capture individual provider and supplier feedback on relevant Fee-for-Service (FFS) Medicare policy and operational issues. These meetings allow us to further advance our efforts to strengthen the Medicare program and enhance our relationship with providers and suppliers. The meetings also provide a venue to allow us to continue a process of communication with individual providers and suppliers through the following year.

II. Meeting Format and Agenda

The meeting will begin with an overview of the goals and objectives of the MPFG efforts to gather feedback from individual Medicare providers and suppliers. This meeting will be held on-site at CMS and by teleconference. The meeting is open to the public, but on-site attendance is limited to space available. The meeting agenda and discussion materials will be available to download by October 23, 2009. These materials can be located at http://www.cms.hhs.gov/center/provider.asp.

The feedback provided during this meeting will assist us as we evaluate FFS Medicare policy, operational issues, and CMS' provider and supplier communication activities. Topics to be discussed include, but are not limited to, 5010, ICD-10, Medicare Contracting Reform: Lessons Learned from Medicare Administrative Contractor (MAC) Implementations, Recovery Audit Contractors (RACs), Provider Communications, and Program Integrity.

There will be a discussion session that offers meeting participants an opportunity to provide feedback on how CMS services physicians, providers, and suppliers, as well as make suggestions on how this process can be improved. Time for participants to provide feedback will be limited according to the number of registered participants; however, written submissions will be accepted. Individuals who wish to provide written feedback should e-mail their feedback to Colette Shatto at MFG@cms.hhs.gov. Written feedback will be accepted through November 6, 2009. Consideration will be given to feedback received on the topics discussed at the meeting, but written responses will not be provided.

Registered participants from the meeting will be included as volunteer participants in the MPFG and may be contacted throughout the year for follow-up meetings to solicit additional opinions or clarify any issues that may arise from the October 29, 2009 meeting.

III. Registration Instructions

The Division of Provider Relations and Evaluations, Provider Communications Group, Center for Medicare Management is coordinating the meeting registration. While there is no registration fee, individuals must register to participate both on-site and by teleconference. Individuals must complete the on-line registration located at http://registration.intercall.com/go/cms2.

The on-line registration system will capture contact information and practice characteristics (for example, names, e-mail addresses, and provider and supplier types). Registration will be open beginning September 28, 2009 and will close on October 23, 2009. Registration after 5 p.m. EDT on October 23, 2009 will not be accepted.

The on-line registration system will generate a confirmation page to indicate the completion of your registration. Participants should print this page as his or her registration receipt. Teleconference instructions will be issued as part of the confirmation page once participants have registered through the on-line registration instrument. Seating capacity is limited to the first 250 registrants.

If seating capacity has been reached for on-site participants, notification will be sent that the meeting has reached capacity; however, those wishing to participate may still do so by teleconference.

IV. Security, Building, and Parking Guidelines

Because this meeting will be located on Federal property, for security reasons, any persons wishing to attend this meeting must register by 5 p.m. EDT on October 23, 2009. Individuals who have not registered by the registration deadline will not be allowed to enter the building to attend the meeting or attend the meeting by teleconference.

The on-site check-in for visitors will be held from 12:30 p.m. to 1:30 p.m EDT. Participants should allow sufficient time to go through the security checkpoints. It is suggested that participants arrive at 7500 Security Boulevard no later than 1:30 p.m. EDT in order to arrive promptly at the meeting by 2 p.m.

Security measures will include inspection of vehicles, inside and out, at the entrance to the grounds. In addition, all persons entering the building must pass through a metal detector. All items brought to the building, whether personal or for the purpose of the meeting, are subject to inspection. In order to gain access to the building, participants will be required to show a government-issued photo identification (for example, driver's license or passport), and must be listed on an approved security list before persons are permitted entrance. Persons not registered in advance will not be permitted into the CMS building and will not be permitted to attend the meeting.

We cannot assume responsibility for coordinating the receipt, transfer, transport, storage, set-up, safety, or timely arrival of any personal belongings or items used for the purpose of presentation.

Individuals requiring sign language interpretation or other special accommodation must contact the Designated Federal Officer specified in the “FOR FURTHER INFORMATION CONTACT” section of this notice by October 23, 2009.

(Catalog of Federal Domestic Assistance Program No. 93.774, Medicare—Supplementary Medical Insurance Program)

Dated: September 3, 2009.
Charlene Frizzera,
Acting Administrator, Centers for Medicare & Medicaid Services.

[FR Doc. E9-22164 Filed 9-24-09; 8:45 am]

BILLING CODE 4120-01-P